DEPARTMENT OF COMMERCE

International Trade Administration

[A-570-912]

Certain New Pneumatic Off-The-Road Tires From the People's Republic of China: Final Results of the Expedited Sunset Review of the Antidumping Duty Order

AGENCY: Enforcement and Compliance, formerly Import Administration, International Trade Administration, Department of Commerce.

SUMMARY: On August 1, 2013, the Department of Commerce (“the Department”) initiated the sunset review of the antidumping duty order on certain new pneumatic off-the-road tires (“OTR tires”) from the People's Republic of China (“PRC”) pursuant to section 751(c) of the Tariff Act of 1930, as amended (“the Act”). As a result of its analysis, the Department finds that revocation of the antidumping duty order would be likely to lead to continuation or recurrence of dumping at the margins indicated in the “Final Results of Sunset Review” section of this notice.

DATES: Effective Date: January 14, 2014.

FOR FURTHER INFORMATION CONTACT: Demitrios Kalogeropoulos, AD/CVD Operations, Office III, Enforcement and Compliance, International Trade Administration, U.S. Department of Commerce, 14th Street & Constitution Avenue NW., Washington, DC 20230; telephone: (202) 482-2623.

SUPPLEMENTARY INFORMATION:

Background

On August 1, 2013, the Department published the notice of initiation of the sunset review of the antidumping duty order on OTR tires from the PRC, pursuant to Section 751(c) of the Act.¹ The Department received a notice of intent to participate from Titan Tire Corporation (“Titan”) and the United Steel, Paper and Forestry, Rubber, Manufacturing, Energy, Allied Industrial and Service Workers International Union, AFL-CIO-CLC (“USW”) (collectively, “domestic interested parties”). Titan claimed interested party status under section 771(9)(C) of the Act, as a domestic producer of the domestic like product. USW claimed interested party status under section 771(9)(D) of the Act as a certified or recognized union representing workers engaged in manufacturing the domestic like product.

¹ See Initiation of Five-Year (“Sunset”) Review, 78 FR 46575 (August 1, 2013).

On September 3, 2013, the Department received an adequate substantive response from the domestic interested parties identified above within the 30-day deadline specified in 19 CFR 351.218(d)(3)(i). The Department did not receive a substantive response from any respondent interested party. As a result, pursuant to section 751(c)(3)(B) of the Act and 19 CFR 351.218(e)(1)(ii)(C)(2), the Department has conducted an expedited (120-day) sunset review of the antidumping duty order on OTR tires from the PRC.

As explained in the memorandum from the Assistant Secretary for Enforcement and Compliance, the Department has exercised its discretion to toll deadlines for the duration of the closure of the Federal Government from October 1, through October 16, 2013.² Therefore, all deadlines in this segment of the proceeding have been extended by 16 days.

² See Memorandum for the Record from Paul Piquado, Assistant Secretary for Enforcement and Compliance, “Deadlines Affected by the Shutdown of the Federal Government.”

Scope of the Order

The products covered by the order are new pneumatic tires designed for off-the-road and off-highway use, subject to certain exceptions. The subject merchandise is currently classifiable under Harmonized Tariff Schedule of the United States (“HTSUS”) subheadings: 4011.20.10.25, 4011.20.10.35, 4011.20.50.30, 4011.20.50.50, 4011.61.00.00, 4011.62.00.00, 4011.63.00.00, 4011.69.00.00, 4011.92.00.00, 4011.93.40.00, 4011.93.80.00, 4011.94.40.00, and 4011.94.80.00. While HTSUS subheadings are provided for convenience and customs purposes, our written description of the scope is dispositive.

For a full description of the scope, see “Issues and Decision Memorandum for the Final Results of Expedited First Sunset Review of the Antidumping Duty Order on New Pneumatic Off-The-Road Tires from the People's Republic of China,” from Christian Marsh, Deputy Assistant Secretary for Antidumping and Countervailing Duty Operations, to Ronald K. Lorentzen, Acting Assistant Secretary for Enforcement and Compliance, dated December 16, 2013 (“Issues and Decision Memorandum”).

Analysis of Comments Received

All issues raised in this review are addressed in the Issues and Decision Memorandum. The issues discussed in the Issues and Decision Memorandum include the likelihood of continuation or recurrence of dumping and the magnitude of the margins likely to prevail if the order were revoked. Parties can find a complete discussion of these issues and the corresponding recommendations in this public document, which is on file electronically via IA ACCESS. IA ACCESS is available to registered users at http://iaaccess.trade.gov and in the Central Records Unit in Room 7046 of the main Department of Commerce building. In addition, a complete version of the Issues and Decision Memorandum can be accessed directly on the internet at http://enforcement.ita.doc.gov/frn/index.html. The signed Issues and Decision Memorandum and the electronic versions of the Issues and Decision Memorandum are identical in content.

Final Results of Sunset Review

We determine that revocation of the antidumping duty order on OTR tires from the PRC would be likely to lead to continuation or recurrence of dumping at the following weighted-average percentage margins:

Exporters/producers | Weighted-average margin (percent)
Guizhou Tyre Co., Ltd./Guizhou Advance Rubber | 5.10
Guizhou Tyre Co., Ltd./Guizhou Tyre Co., Ltd. | 5.10
Hebei Starbright Co., Ltd./GPX International Tire Corporation, Ltd./Hebei Starbright Co., Ltd. | 29.93
Tianjin United Tire Rubber International Co., Ltd. (“TUTRIC”) | 8.39
Xuzhou Xugong Tyres Co., Ltd. | 9.92
Aeolus Tyre Co., Ltd. | 12.83
Double Coin Holdings Ltd. | 12.83
Double Coin Holdings Ltd./Double Coin Group Rugao Tyre Co., Ltd. | 12.83
Double Coin Holdings Ltd./Double Coin Group Shanghai Donghai Tyre Co., Ltd. | 12.83
Double Happiness Tyre Industries Corp., Ltd. | 12.83
Jiangsu Feichi Co., Ltd. | 12.83
Kenda Rubber (China) Co., Ltd./Kenda Global Holding Co., Ltd. (Cayman Islands)/Kenda Rubber (China) Co., Ltd. | 12.83
KS Holding Limited/Oriental Tyre Technology Ltd. | 12.83
KS Holding Limited/Shandong Taishan Tyre Co., Ltd. | 12.83
KS Holding Limited/Xu Zhou Xugong Tyres Co., Ltd. | 12.83
Laizhou Xiongying Rubber Industry Co., Ltd. | 12.83
Oriental Tyre Technology Limited/Midland Off the Road Tire Co., Ltd. | 12.83
Oriental Tyre Technology Limited/Midland Specialty Tire Co., Ltd. | 12.83
Oriental Tyre Technology Limited/Xuzhou Hanbang Tyres Co., Ltd. | 12.83
Qingdao Aonuo Tyre Co., Ltd. | 12.83
Qingdao Etyre International Trade Co., Ltd./Shandong Xingda Tyre Co. Ltd. | 12.83
Qingdao Etyre International Trade Co., Ltd./Shandong Xingyuan International Trade Co. Ltd. | 12.83
Qingdao Etyre International Trade Co., Ltd./Shandong Xingyuan Rubber Co. Ltd. | 12.83
Qingdao Free Trade Zone Full-World International Trading Co., Ltd./Qingdao Eastern Industrial Group Co., Ltd. | 12.83
Qingdao Free Trade Zone Full-World International Trading Co., Ltd./Qingdao Qihang Tyre Co., Ltd. | 12.83
Qingdao Free Trade Zone Full-World International Trading Co., Ltd./Qingdao Shuanghe Tyre Co., Ltd. | 12.83
Qingdao Free Trade Zone Full-World International Trading Co., Ltd./Qingdao Yellowsea Tyre Factory | 12.83
Qingdao Free Trade Zone Full-World International Trading Co., Ltd./Shandong Zhentai Tyre Co., Ltd. | 12.83
Qingdao Hengda Tyres Co., Ltd. | 12.83
Qingdao Milestone Tyre Co., Ltd./Qingdao Shuanghe Tyre Co., Ltd. | 12.83
Qingdao Milestone Tyre Co., Ltd./Shandong Zhentai Tyre Co., Ltd. | 12.83
Qingdao Milestone Tyre Co., Ltd./Shifeng Double-Star Tire Co., Ltd. | 12.83
Qingdao Milestone Tyre Co., Ltd./Weifang Longtai Tyre Co., Ltd. | 12.83
Qingdao Qihang Tyre Co., Ltd. | 12.83
Qingdao Qizhou Rubber Co., Ltd. | 12.83
Qingdao Sinorient International Ltd./Qingdao Hengda Tyres Co., Ltd. | 12.83
Qingdao Sinorient International Ltd./Shifeng Double-Star Tire Co., Ltd. | 12.83
Qingdao Sinorient International Ltd./Tengzhou Broncho Tyre Co., Ltd. | 12.83
Shandong Huitong Tyre Co., Ltd. | 12.83
Shandong Jinyu Tyre Co., Ltd. | 12.83
Shandong Taishan Tyre Co., Ltd. | 12.83
Shandong Wanda Boto Tyre Co., Ltd. | 12.83
Shandong Xingyuan International Trading Co., Ltd./Shangdong Xingda Tyre Co., Ltd. | 12.83
Shandong Xingyuan International Trading Co., Ltd./Xingyuan Tyre Group Co., Ltd. | 12.83
Techking Tires Limited/Shandong Xingda Tyre Co. Ltd. | 12.83
Techking Tires Limited/Shandong Xingyuan International Trade Co. Ltd. | 12.83
Techking Tires Limited/Shandong Xingyuan Rubber Co. Ltd. | 12.83
Triangle Tyre Co., Ltd. | 12.83
Wendeng Sanfeng Tyre Co., Ltd. | 12.83
Zhaoyuan Leo Rubber Co., Ltd. | 12.83
PRC-Entity Rate | 210.48

Notification to Interested Parties

This notice also serves as the only reminder to parties subject to administrative protective orders (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the final results of this sunset review in accordance with sections 751(c), 752(c), and 777(i)(1) of the Act.

Dated: December 16, 2013.
Ronald K. Lorentzen,
Acting Assistant Secretary for Enforcement and Compliance.

[FR Doc. 2014-00395 Filed 1-13-14; 8:45 am]

BILLING CODE 3510-DS-P